FARM CREDIT ADMINISTRATION

12 CFR Part 615

RIN 3052-AC22

Funding and Fiscal Affairs, Loan Policies and Operations, and Funding Operations; Investments, Liquidity, and Divestiture; Effective Date

AGENCY: Farm Credit Administration.

ACTION: Notice of effective date.

SUMMARY: The Farm Credit Administration (FCA) published a final rule under part 615 on August 31, 2005 (70 FR 51586). This final rule amends our liquidity reserve requirements for the banks of the Farm Credit System to ensure the banks have adequate liquidity. The final rule increases the minimum liquidity reserve requirement to 90 days, increases the eligible investment limit to 35 percent of total outstanding loans and requires Farm Credit banks to develop and maintain liquidity contingency plans. These amended requirements will improve the ability of Farm Credit banks to supply agricultural credit in all economic situations. In accordance with 12 U.S.C. 2252, the effective date of the final rule is 30 days from the date of publication in the Federal Register during which either or both Houses of Congress are in session. Based on the records of the sessions of Congress, the effective date of the regulation is October 24, 2005.

EFFECTIVE DATE: The regulation amending 12 CFR part 615 published on August 31, 2005 (70 FR 51586) is effective October 24, 2005.

FOR FURTHER INFORMATION CONTACT:

Wade Wynn, Financial Analyst, Office of Regulatory Policy, Farm Credit Administration, McLean, VA 22102-5090, (703) 883-4498, TTY (703) 883-4434; or

Laura McFarland, Senior Attorney, Office of General Counsel, Farm Credit Administration, McLean, VA 22102-5090, (703) 883-4020, TTY (703) 883-4020.

Authority: 12 U.S.C. 2252(a)(9) and (10)

Dated: October 26, 2005.
Jeanette C. Brinkley,
Secretary, Farm Credit Administration Board.

[FR Doc. 05-21629 Filed 10-28-05; 8:45 am]

BILLING CODE 6705-01-P